NATIONAL INDIAN GAMING COMMISSION

25 CFR Parts 502 and 546

Consultation on Classification on Standards and Definitions

AGENCY: National Indian Gaming Commission.

ACTION: Notice of consultation with tribal governments.

SUMMARY: The purpose of this document is to publish the schedule for government-to-government consultation on proposed revisions to 25 CFR part 502 and new part 546.

FOR FURTHER INFORMATION CONTACT: Natalie Hemlock at 202/632-7003; fax 202/632-7066 (these are not toll-free numbers).

SUPPLEMENTARY INFORMATION: Congress established the National Indian Gaming Commission (NIGC or Commission) under the Indian Gaming Regulatory Act of 1988 (25 U.S.C. 2701 et seq.) (IGRA) to regulate gaming on Indian lands. In accordance with the NIGC's tribal consultation policy, the Commission will engage in consultation with tribal governments on the proposed regulations that will clearly distinguish technologically-aided Class II games from Class III “electronic or electromechanical facsimiles of any game of chance” or “slot machines of any kind.” The proposed Class II definitions and game classification standards were published in the Federal Register on May 25, 2006 (71 FR 30238).

Consultation Schedule: The Commission will be conducting government-to-government consultations with Tribes on this proposed rule on the following dates:

July 12-13, Washington, DC.

July 17-18, Bloomington, Minnesota.

July 19-20, Denver, Colorado.

July 24-25, Tacoma, Washington.

July 26-27, Ontario, California.

August 8-9, Oklahoma City, Oklahoma.

Invitations will be mailed out to Tribal leaders in the coming weeks. These consultation meetings will be transcribed.

Dated: June 6, 2006.
Philip N. Hogen,
Chairman, National Indian Gaming Commission.

[FR Doc. E6-9044 Filed 6-9-06; 8:45 am]

BILLING CODE 7565-01-P